DEPARTMENT OF THE INTERIOR

Bureau of Land Management

[ES-030-1430-00] ES-50580, Group 547, Minnesota

Notice of Filing of Plat of Three Islands; MN

1. The plat of the survey of three islands in Five Lake, Township 139 North, Range 40 West, Fifth Principal Meridian, Minnesota, accepted January 6, 2000, will be officially filed in Eastern States, Springfield, Virginia at 7:30 a.m., on February 22, 2000. The tracts shown below describe the islands omitted from the original survey.

Fifth Principal Meridian, Minnesota

T. 139 N. R. 40 W.

Tract Nos. 37, 38 and 39.

2. Tract No. 37 is firm land rising 2 ft. above the ordinary high water mark. The soil has evolved from glacial till parent material and is similar to the soil found on the adjacent uplands. The presence of numerous granite stones, several approaching 2½ ft. in diameter were located along the northerly shore of the island. Tree species consist of basswood, birch, oak and pine, ranging in size from 3 to 12 inches in diameter, with a maximum age of 100+ years. The ground cover consists of alder and willow, along with native grasses.

Tract No. 38 is firm land rising 10 to 12 ft. above the ordinary high water mark. The soil has evolved from glacial till parent material and is similar to the soil found on the adjacent uplands. Numerous granite stones, several approaching 2 ft. in diameter were located throughout the island and along the westerly and southerly shore of the island. Tree species consist of ash, basswood, birch, oak, spruce and pine, ranging in size from 4 to 20 inches in diameter. Several oaks and pines located near the center of the island were measured and found to be 15 to 20 inches in diameter, with a maximum age of 150+ years. The ground cover consists of alder, hazel and willow, along with native grasses.

Tract No. 39 is firm land rising 15 ft. above the ordinary high water mark. The soil has evolved from glacial till parent material and is similar to the soil found on the adjacent uplands. Tree species consist of ash, aspen, basswood, birch and oak, ranging in size from 6 to 20 inches in diameter, with a maximum age of 150+ years. The ground cover consists of alder, hazel and willow, along with a few native grasses along the southerly shore of the island.

3. The present water level of the lake compares favorably with that of the original meander line; therefore, the elevation and upland character these islands along with the depth and width of the lake between the adjacent upland and the island are considered evidence that the island did exist in 1858, the year Minnesota was admitted to the Union. The original survey in 1871 did not note the presence of these islands.

4. These islands are more than 50 percent upland in character within the interpretation of the Swamp and Overflow Act of September 28, 1850 (9 Stat. 519) as extended to the State of Minnesota under the Act of March 12, 1860 (12 Stat. 3). Therefore, these islands are held to be public land.

5. The survey was requested by the Assistant Field Manager, Division of Natural Resource Management, under the authority of Section 211 of FLPMA (43 U.S.C. 1721) and the Minnesota Public Lands Improvement Act of 1990, P.L. 101-442 (104 Stat. 1020).

6. Except for valid existing rights, these islands will not be subject to application, petition, location or selection under any public law until February 22, 2000.

7. Interested parties protesting the determination that these islands are public land of the United States, must present valid proof showing that the island in question did not exist at the time of statehood or that it was attached to the mainland at the time of the original survey. Such protests must be submitted in writing to the Chief Cadastral Surveyor, Eastern States, Bureau of Land Management, 7450 Boston Boulevard, Springfield, Virginia 22153, prior to 7:30 a.m., February 22, 2000.

Copies of the plat will be made available upon request and prepayment of the appropriate fee.

Dated: January 6, 2000.
Stephen G. Kopach,
Chief Cadastral Surveyor.

[FR Doc. 00-1111 Filed 1-14-00; 8:45 am]

BILLING CODE 4310-GJ-P